NATIONAL INDIAN GAMING COMMISSION

Notice of Availability of the Record of Decision for Environmental Impact Statement for the Federated Indians of the Graton Rancheria Casino and Hotel, Sonoma County, CA

AGENCY: National Indian Gaming Commission (NIGC).

ACTION: Notice of Availability (NOA).

SUMMARY: In accordance with Section 102(2)(C) of the National Environmental Policy Act (NEPA) 42 U.S.C. 4321 et seq., the NIGC, in cooperation with the Federated Indians of the Graton Rancheria (the “Graton Rancheria”), announces the availability of the Record of Decision (ROD) for the Federated Indians of the Graton Rancheria Casino and Hotel, Sonoma County, CA.

ADDRESSES: The document is available electronically on the following websites: http://www.gratoneis.com, http://www.nigc.gov/Environment_Public_Health_Safety/NEPA_Compliance.aspx. Hard copies of the document are available for viewing at the following addresses: Rohnert Park—Cotati Regional Library and Santa Rosa Central Library, general information, including directions and office hours is available online at: http://www.sonoma.lib.ca.us/branches/ or by calling (707) 584-9121 for the Rohnert Park—Cotati Regional Library or (707) 545-0831 for the Santa Rosa Central Library.

FOR FURTHER INFORMATION CONTACT: For further information or to request a copy of the ROD, please contact: Brad Mehaffy, NEPA Compliance Officer, National Indian Gaming Commission, 1441 L Street, NW., Suite 9100, Washington, DC 20005.

Phone: (202) 632-7003, Ext. 256.

Fax: (202) 632-7066.

E-mail: bradley_mehaffy@nigc.gov.

SUPPLEMENTARY INFORMATION: The ROD covered by this Notice of Availability (NOA) is for the Federated Indians of the Graton Rancheria Casino and Hotel, Sonoma County, CA. The NIGC approves Alternative H-sub1 as the preferred alternative (see Attachment 3 of the ROD).

Authority: This notice is published in accordance with sections 1506.6 of the Council of Environmental Quality Regulations 40 CFR, parts 1500 through 1508 implementing the procedural requirements of the NEPA of 1969, as amended 42 U.S.C. 4371 et seq. This notice is also published in accordance with 40 CFR 93.155, which provides reporting requirements for conformity determinations.

Dated: October 8, 2010.
Tracie Stevens,
Chairwoman.

[FR Doc. 2010-26074 Filed 10-14-10; 8:45 am]

BILLING CODE 7565-01-P